DEPARTMENT OF TRANSPORTATION

Federal Aviation Administration

14 CFR Part 39

[Docket No. 2000-NM-16-AD; Amendment 39-11557; AD 2000-02-39]

RIN 2120-AA64

Airworthiness Directives; Airbus Model A300 Series Airplanes

AGENCY: Federal Aviation Administration, DOT.

ACTION: Final rule; request for comments.

SUMMARY: This amendment adopts a new airworthiness directive (AD) that is applicable to certain Airbus Model A300 series airplanes. This action requires either a one-time ultrasonic inspection, or repetitive visual inspections and eventual ultrasonic inspection, to detect cracking of the longitudinal skin splice above the mid-passenger door panels, and corrective actions, if necessary. This amendment is prompted by issuance of mandatory continuing airworthiness information by a foreign civil airworthiness authority. The actions specified in this AD are intended to detect and correct cracking of the longitudinal skin splice above the mid-passenger door panels, which could result in reduced structural integrity of the fuselage pressure vessel.

DATES: Effective February 22, 2000.

The incorporation by reference of certain publications listed in the regulations is approved by the Director of the Federal Register as of February 22, 2000.

Comments for inclusion in the Rules Docket must be received on or before March 8, 2000.

ADDRESSES: Submit comments in triplicate to the Federal Aviation Administration (FAA), Transport Airplane Directorate, ANM-114, Attention: Rules Docket No. 2000-NM-16-AD, 1601 Lind Avenue, SW., Renton, Washington 98055-4056.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: The Direction Générale de l'Aviation Civile (DGAC), which is the airworthiness authority for France, notified the FAA that an unsafe condition may exist on certain Airbus Model A300 series airplanes. The DGAC advises that, during a routine maintenance check, a horizontal crack of 35.6 inches was detected in the surrounding panel above the right mid-passenger door. The exact cause of the cracking is unknown at this time. The area of the crack is covered by a sealant bead at the junction of two skin panels and is not visible from the outside. After the insulation blankets were removed from the inside, the crack was visually detected 1 inch below stringer 11, and started 9 inches from frame 29 and extended 6.7 inches aft frame 30. Such cracking, if not detected and corrected, could result in reduced structural integrity of the fuselage pressure vessel.

Explanation of Relevant Service Information

Airbus has issued All Operators Telex (AOT) A300-53A0352, dated January 4, 2000, which describes procedures for a one-time ultrasonic inspection and repetitive detailed visual inspections to detect cracking of the longitudinal skin splice above the mid-passenger door panels below stringer 11 left- and right-hand and between frames 28A and 30A, and corrective actions, if necessary. The corrective actions involve installing either a temporary or permanent repair. The temporary repair consists of stop drilling all cracks and installing an external doubler attached with rivets. The temporary repair is to be replaced with a permanent repair within 2,000 flight cycles. The permanent repair consists of cutting out all cracked areas, and installing an external doubler with a milled step. The DGAC classified this AOT as mandatory and issued French airworthiness directive T2000-001-300(B), Revision 1, dated January 7, 2000, in order to assure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to detect and correct cracking of the longitudinal skin splice above the mid-passenger door panels, which could result in reduced structural integrity of the fuselage pressure vessel. This AD requires accomplishment of the actions specified in the AOT described previously, except as discussed below. This AD also requires that operators report results of all inspection findings to Airbus.

Differences Between Rule and AOT

Operators should note that, unlike the procedures described in the Airbus AOT, this AD would not permit further flight if cracks are detected. The FAA has determined that, because of the safety implications and consequences associated with such cracking, any cracks must be repaired or modified prior to further flight.

Interim Action

This is considered to be interim action. The inspection reports that are required by this AD will enable the manufacturer to obtain better insight into the nature, cause, and extent of the cracking, and eventually to develop final action to address the unsafe condition. Once final action has been identified, the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-16-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-02-39 Airbus Industrie: Amendment 39-11557. Docket 2000-NM-16-AD.

Applicability: Model A300 series airplanes, having serial numbers 1 through 156 inclusive; certificated in any category; except those airplanes on which Airbus Modification 2611 has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct cracking of the longitudinal skin splice above the mid-passenger door panels, which could result in reduced structural integrity of the fuselage pressure vessel, accomplish the following:

Ultrasonic or Detailed Visual Inspection

(a) Within 14 days after the effective date of this AD, accomplish the requirements of either paragraph (a)(1) or (a)(2) of this AD, in accordance with Airbus All Operators Telex (AOT) A300-53A0352, dated January 4, 2000.

(1) Perform a one-time ultrasonic inspection to detect cracking of the longitudinal skin splice above the mid-passenger door panels below stringer 11 (left-and right-hand) and between frames 28A and 30A.

(i) If no cracking is detected, no further action is required by this AD.

(ii) If any cracking is detected, prior to further flight, accomplish the requirements of paragraph (b) of this AD.

(2) Perform a detailed visual inspection to detect cracking of the longitudinal skin splice above the mid-passenger door panels below stringer 11 (left- and right-hand) and between frames 28A and 30A.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirrors, magnifying lenses, etc., may be used. Surface cleaning and elaborate access procedures may be required.”

(i) If no cracking is detected, accomplish the requirements of paragraphs (a)(2)(i)(A) and (a)(2)(i)(B) of this AD.

(A) Repeat the detailed visual inspection thereafter at intervals not to exceed 80 flight cycles; and

(B) Within 90 days after the effective date of this AD, accomplish the requirements of paragraph (a)(1) of this AD.

(ii) If any cracking is detected, prior to further flight, accomplish the requirements of paragraph (b) of this AD.

Corrective Actions

(b) For airplanes on which any cracking is detected during any inspection required by paragraph (a)(1) or (a)(2) of this AD, prior to further flight, install either a temporary or permanent repair, in accordance with Airbus AOT A300-53A0352, dated January 4, 2000.

(1) If a temporary repair is installed, prior to the accumulation of 2,000 flight cycles after the installation of the temporary repair, install the permanent repair.

(2) If a permanent repair is installed, no further action is required by this AD.

Reporting Requirement

(c) Within 10 days after accomplishing the initial inspection required by paragraph (a)(1) or (a)(2) of this AD, and after all repetitive inspections required by paragraph (a)(2)(i) of this AD, as applicable, submit a report of the inspection results (both positive and negative findings) to: Mr. Rolland Filaquier—AI/SE-A21, Airbus Industrie, 1 Rond Point Maurice Bellonte, 31707 Blagnac Cedex, France. Information collection requirements contained in this regulation have been approved by the Office of Management and Budget (OMB) under the provisions of the Paperwork Reduction Act of 1980 (44 U.S.C. 3501 et seq.) and have been assigned OMB Control Number 2120-0056.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Airbus All Operators Telex A300-53A0352, dated January 4, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive T2000-001-300(B), Revision 1, dated January 7, 2000.

(g) This amendment becomes effective on February 22, 2000.

Issued in Renton, Washington, on January 31, 2000.
Donald L. Riggin,
Acting Manager, Transport Airplane Directorate, Aircraft Certification Service.

[FR Doc. 00-2467 Filed 2-4-00; 8:45 am]

BILLING CODE 4910-13-P